SMALL BUSINESS ADMINISTRATION

Region VIII Regulatory Fairness Board;

Public Federal Regulatory Enforcement Fairness Hearing

The Small Business Administration Region VIII Regulatory Fairness Board and the SBA Office of the National Ombudsman will hold a public hearing on Thursday, March 27, 2003, at 1:30 p.m. at the Denver Public Library, Central Branch, 10 West 14th Avenue Parkway, Denver, CO 80204, to receive comments and testimony from small business owners, small government entities, and small non-profit organizations concerning regulatory enforcement and compliance actions taken by Federal agencies.

Anyone wishing to attend or to make a presentation must contact Joseph Edwards in writing or by fax, in order to be put on the agenda. Joseph Edwards, U.S. Small Business Administration, Colorado District Office, 721 19th Street, Suite 426, Denver, CO 80202, phone (303) 844-2607 Ext 231, fax (303) 844-6468, e-mail Joseph.Edwards@sba.gov.

For more information, see our Web site at www.sba.gov/ombudsman.

Dated: February 26, 2003.
Michael L. Barrera,
National Ombudsman.

[FR Doc. 03-5257 Filed 3-5-03; 8:45 am]

BILLING CODE 8025-01-P